DEPARTMENT OF COMMERCE

International Trade Administration

[A-557-816]

Certain Steel Nails From Malaysia: Final Results of Antidumping Duty Administrative Review and Final Rescission of Review; 2022-2023

AGENCY: Enforcement and Compliance, International Trade Administration, Department of Commerce.

SUMMARY: The U.S. Department of Commerce (Commerce) determines that certain steel nails (nails) from Malaysia were sold at less than normal value during the period of review (POR), July 1, 2022, through June 30, 2023.

DATES: Applicable April 7, 2025.

FOR FURTHER INFORMATION CONTACT: John Drury, AD/CVD Operations, Office VI, Enforcement and Compliance, International Trade Administration, U.S. Department of Commerce, 1401 Constitution Avenue NW, Washington, DC 20230; telephone: (202) 482-0195.

SUPPLEMENTARY INFORMATION:

Background

On July 22, 2024, Commerce tolled certain deadlines in this administrative proceeding by seven days.¹ On July 30, 2024, Commerce published the Preliminary Results of the 2022-2023 administrative review of the antidumping duty (AD) order on nails from Malaysia.² We invited interested parties to comment on the Preliminary Results.³ On November 26, 2024, we extended the deadline for these final results until January 31, 2024.⁴ On December 9, 2024, Commerce tolled the deadline to issue the final results in this administrative review by 90 days.⁵ Accordingly, the deadline for these final results is now April 24, 2025. For a detailed summary of the events that occurred since Commerce published the Preliminary Results, see the Issues and Decision Memorandum.⁶

¹ See Memorandum, “Tolling of Deadlines for Antidumping and Countervailing Duty Proceedings,” dated July 22, 2024.

² See Certain Steel Nails from Malaysia: Preliminary Results of Antidumping Duty Administrative Review and Preliminary Rescission of Review, in Part; 2022-2023, 89 FR 61060 (July 30, 2024) (Preliminary Results), and accompanying Preliminary Decision Memorandum.

³ See Preliminary Results, 89 FR at 61061.

⁴ See Memorandum, “Extension of Deadline for Final Results of Antidumping Duty Administrative Review,” dated November 26, 2024.

⁵ See Memorandum, “Tolling of Deadlines for Antidumping and Countervailing Duty Proceedings,” dated December 9, 2024.

⁶ See Memorandum, “Issues and Decision Memorandum for the Final Results of the Administrative Review of the Antidumping Duty Order on Certain Steel Nails from Malaysia; 2022-2023,” dated concurrently with, and hereby adopted by, this notice (Issues and Decision Memorandum).

Scope of the Order ⁷

⁷ See Certain Steel Nails from the Republic of Korea, Malaysia, the Sultanate of Oman, Taiwan, and the Socialist Republic of Vietnam: Antidumping Duty Orders, 80 FR 39994 (July 13, 2015) (Order).

The products covered by the scope of the Order are nails from Malaysia. For a complete description of the scope of the Order, see the Issues and Decision Memorandum.⁸

⁸ See Issues and Decision Memorandum at 1-2.

Analysis of Comments Received

All issues raised in the case and rebuttal briefs filed by interested parties in this review are addressed in the Issues and Decision Memorandum. A list of the topics included in the Issues and Decision Memorandum is attached as Appendix I to this notice. The Issues and Decision Memorandum is a public document and is made available to the public via Enforcement and Compliance's Antidumping and Countervailing Duty Centralized Electronic Service System (ACCESS). ACCESS is available to registered users at https://access.trade.gov. In addition, a complete version of the Issues and Decision Memorandum can be found at https://access.trade.gov/public/FRNoticesListLayout.aspx.

Rescission of Review

Pursuant to 19 CFR 351.213(d)(3), it is Commerce's practice to rescind an administrative review of an AD order when there are no reviewable entries of subject merchandise during the POR for which liquidation is suspended.⁹ Normally, upon completion of an administrative review, the suspended entries are liquidated at the AD assessment rate calculated for the review period.¹⁰ Therefore, for an administrative review to be conducted, there must be a reviewable, suspended entry that Commerce can instruct U.S. Customs and Border Protection (CBP) to liquidate at the AD assessment rate calculated for the review period.¹¹

⁹ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹⁰ See 19 CFR 351.212(b)(1).

¹¹ See 19 CFR 351.213(d)(3).

On July 24, 2024, we issued a memorandum to all interested parties listing 36 companies for which we initiated this administrative review and for which there was no evidence of any suspended entries during the POR.¹² See Appendix II for a list of these companies. We invited parties to comment, and we received no comments. Accordingly, in the absence of suspended entries of subject merchandise during the POR, we are hereby rescinding this administrative review for these 36 companies, in accordance with 19 CFR 351.213(d)(3).

¹² See Memorandum, “Notice of Intent to Rescind Review, In Part,” dated July 24, 2024.

Changes Since the Preliminary Results

We made no changes to the margin calculation methodology used in the Preliminary Results and have not changed the dumping margin for these final results of review, as discussed in the Issues and Decision Memorandum.

Rate for Non-Selected Respondents

The statute and Commerce's regulations do not address the establishment of a rate to be applied to companies not selected for individual examination when Commerce limits its examination in an administrative review pursuant to section 777A(c)(2) of the Tariff Act of 1930, as amended (the Act). Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

In this review, we preliminarily calculated weighted-average dumping margins for both Region International Co., Ltd. and Region System Sdn. Bhd. (collectively, Region) and Inmax Sdn. Bhd. and Inmax Industries Sdn. Bhd. (collectively, Inmax) that are not zero, de minimis, or determined entirely on the basis of facts available.¹³ For the final results, we continue to calculate weighted-average dumping margins for both Region and Inmax that are not zero, de minimis, or determined entirely on the basis of facts available. Accordingly, consistent with our practice, for the final results of this review, we continue to assign to the non-selected mandatory respondents a dumping margin which is determined as the simple average of the margins calculated for Region and Inmax.

¹³ See Preliminary Results, 89 FR 61061.

Final Results of the Administrative Review

We determine that the following weighted-average dumping margins exist for the period July 1, 2022, through June 30, 2023:

¹⁴ See Appendix III for the list of non-selected respondents.

Producer/exporter | Estimated weighted-average dumping margin (percent)
Region International Co., Ltd./Region System Sdn. Bhd | 1.28
Inmax Sdn. Bhd./Inmax Industries Sdn. Bhd | 0.74
Non-Selected Respondents ¹⁴ | 1.01

Disclosure of Calculations

The final weighted-average dumping margins assigned to Inmax and Region for the final results in this review have not changed since the Preliminary Results. Accordingly, no disclosure of calculations is necessary for these final results.

Assessment Rates

Commerce shall determine, and CBP shall assess, antidumping duties on all appropriate entries.¹⁵ For any individually examined respondents whose weighted-average dumping margin is above de minimis, we calculated importer-specific ad valorem duty assessment rates based on the ratio of the total amount of dumping calculated for the importer's examined sales to the total entered value of those same sales, in accordance with 19 CFR 351.212(b)(1). Upon issuance of the final results of this administrative review, if any importer-specific assessment rates calculated in the final results are above de minimis (i.e., at or above 0.5 percent), Commerce will issue instructions directly to CBP to assess antidumping duties on appropriate entries.

¹⁵ In these final results, Commerce applied the assessment rate calculation method adopted in Antidumping Proceedings: Calculation of the Weighted-Average Dumping Margin and Assessment Rate in Certain Antidumping Proceedings: Final Modification, 77 FR 8101 (February 14, 2012).

To determine whether the duty assessment rates covering the period were de minimis, in accordance with the requirement set forth in 19 CFR 351.106(c)(2), we calculated importer (or customer)-specific ad valorem rates by aggregating the amount of dumping calculated for all U.S. sales to that importer or customer and dividing this amount by the total entered value of the sales to that importer (or customer). Where an importer (or customer)-specific ad valorem rate is greater than de minimis, and the respondent has reported reliable entered values, we will apply the assessment rate to the entered value of the importer/customer's entries during the POR.

For the companies identified in Appendix II that were not selected for individual examination, we will instruct CBP to liquidate entries at the rates established in these final results of review.

For entries of subject merchandise during the POR produced by any of these companies for which they did not know their merchandise was destined for the United States, we will instruct CBP to liquidate such entries at the all-others rate if there is no rate for the intermediate company(ies) involved in the transaction.¹⁶

¹⁶ See Antidumping and Countervailing Duty Proceedings: Assessment of Antidumping Duties, 68 FR 23954 (May 6, 2003).

Commerce intends to issue appropriate assessment instructions directly to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of these final results for all shipments of the subject merchandise entered, or withdrawn from warehouse, for consumption on or after the publication date, as provided by section 751(a)(2) of the Act: (1) the cash deposit rate for companies subject to this review will be equal to the company-specific weighted-average dumping margin established in the final results of the review; (2) for merchandise exported by producers or exporters not covered in this review but covered in a prior segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other producers or exporters will continue to be 2.66 percent, the all-others rate established in the less-than-fair-value investigation.¹⁷ These cash deposit requirements, when imposed, shall remain in effect until further notice.

¹⁷ See Certain Steel Nails from Malaysia: Amended Final Determination of Sales at Less Than Fair Value, 80 FR 34370 (June 16, 2015).

Notification to Importers Regarding the Reimbursement of Duties

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

This notice is issued and published in accordance with sections 751(a)(1) and 777(i)(1) of the Act, and 19 CFR 351.221.

Dated: March 31, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Discussion of the Issues

A. Region-Specific Issues

Comment 1: Timeliness of Supplemental Questionnaire Response Submission

Comment 2: Reporting of Cost of Production (COP)

B. Inmax-Specific Issues

Comment 3: Home Market Sales are Not Bona Fide

Comment 4: Reporting of Cost Information

Comment 5: Scrap Offset

V. Recommendation

Appendix II

Companies With No Entries During the POR

1. Alsons Manufacturing India, LLP.

2. Asia Bolts & Nuts Sdn. Bhd.

3. Astrotech Steels Pvt. Ltd.

4. AV Fastener (M) Sdn. Bhd.

5. Chia Pao Metal Co., Ltd.

6. Chin Lai Hardware Sdn. Bhd.

7. Chin Well Fasteners Co.

8. Chuan Heng Hardware Paints and Building Materials Sdn. Bhd.

9. Come Best (Thailand) Co., Ltd.

10. Gbo Fastening Systems AB.

11. Geekay Wires Limited.

12. Gripwell Fastening (M) Sdn. Bhd.

13. Impress Steel Wire Industries Sdn. Bhd.

14. Fastenal Malaysia Sdn. Bhd.

15. Fuji Fastener Manufacturing Sdn. Bhd.

16. Kerry-Apex (Thailand) Co., Ltd.

17. Kimmu Industries Sdn. Bhd.

18. Modern Factory for Steel Industries Co., Ltd.

19. Multi Venture Resources Sdn. Bhd.

20. Oman Fasteners LLC.

21. RM Wire Industries Sdn. Bhd.

22. S.H. Chooi Fasteners.

23. SK Bolts & Fasteners Sdn. Bhd.

24. Soon Shing Building Materials Sdn. Bhd.

25. Storeit Services LLP.

26. Sunmat Industries Sdn. Bhd.

27. Tag Staples Sdn. Bhd.

28. Tampin Sin Yong Wai Industry Sdn. Bhd.

29. Top Remac Industries.

30. Trinity Steel Private Limited.

31. UD Industries Sdn. Bhd.

32. Vien Group Sdn. Bhd.

33. Watasan Industries Sdn. Bhd.

34. Wing Tai Fastener Manufacturer.

35. WWL India Private Ltd.

36. Yew Siong Industrial Supplies Sdn. Bhd.

Appendix III

Companies Not Selected for Individual Review

1. Kimmu Trading Sdn., Bhd.

2. Madura Fasteners Sdn. Bhd.

3. Tag Fasteners Sdn. Bhd.

4. Winston Mayer Sdn. Bhd.

[FR Doc. 2025-05891 Filed 4-4-25; 8:45 am]

BILLING CODE 3510-DS-P